DEPARTMENT OF COMMERCE

Bureau of Economic Analysis

15 CFR Part 801

[Docket No. 030929241-3241-01]

RIN 0691-AA55

International Services Surveys: BE-9, Quarterly Survey of Foreign Airline Operators' Revenues and Expenses in the United States

AGENCY: Bureau of Economic Analysis, Commerce.

ACTION: Notice of proposed rulemaking.

SUMMARY: This document sets forth proposed rules to amend regulations to institute a new survey, BE-9, Quarterly Survey of Foreign Airline Operators' Revenues and Expenses in the United States, to be conducted by the Bureau of Economic Analysis (BEA), U.S. Department of Commerce.

The Department of Commerce, as part of its continuing effort to reduce paperwork and respondent burden, invites the general public and other Federal agencies to comment on proposed and/or continuing information collections, as required by the Paperwork Reduction Act of 1995. The proposed survey is mandatory and will be conducted quarterly under the International Investment and Trade in Services Survey Act. The first BE-9 quarterly survey conducted if these proposed rules are adopted cover transactions in the first quarter of 2004. BEA would send the survey to potential respondents in January of 2004; responses would be due 50 days after the end of the calendar quarter. Data from the proposed BE-9 survey are needed for the compilation of the U.S. balance of payments accounts. The information collected in this survey will be used in developing the “transportation” portion of the U.S. balance of payments accounts. The balance of payments accounts, which are published quarterly in the Survey of Current Business, are one of the major statistical products of BEA. They are used extensively by both government and private organizations. Without the information collected in this survey, quarterly data needed for estimating an integral component of the transportation account would be unavailable. The data are utilized by private organizations and numerous government agencies for analyzing economic trends. The data collected are also used for compiling the U.S. national income and product accounts, and for reporting to international organizations such as the International Monetary Fund.

Foreign air carriers with total annual covered revenues or total annual covered expenses incurred in the U.S. of $5 million or more would be required to respond to the survey if this rule is adopted.

DATES: Comments on these proposed rules will receive consideration if submitted in writing on or before December 16, 2003.

ADDRESSES: Mail comments to the Office of the Chief, Balance of Payments Division (BE-58), Bureau of Economic Analysis, U.S. Department of Commerce, Washington, DC 20230, or hand deliver comments to room M-100, 1441 L Street, NW., Washington, DC 20005. Comments will be available for public inspection in room 8013, 1441 L Street, NW., between 8 a.m. and 4 p.m., Monday through Friday.

FOR FURTHER INFORMATION CONTACT: Edward Dozier, Balance of Payments Division (BE-58), Bureau of Economic Analysis, U.S. Department of Commerce, Washington, DC 20230; via the Internet at edward.dozier@bea.gov; or via telephone at 202-606-9559.

SUPPLEMENTARY INFORMATION: These proposed rules amend 15 CFR part 801.9 to set forth the reporting requirements for the BE-9, Quarterly Survey of Foreign Airline Operators' Revenues and Expenses in the United States. The Bureau of Economic Analysis (BEA), U.S. Department of Commerce, will conduct the survey under the International Investment and Trade in Services Survey Act, 22 U.S.C. 3101-3108 (hereinafter “the Act”). Section 4(a) of the Act (22 U.S.C. 3103(a)) provides that “The President shall, to the extent he deems necessary and feasible— * * * (1) conduct a regular data collection program to secure current information * * * related to international investment and trade in services * * * ; and (5) publish for the use of the general public and United States Government agencies periodic, regular, and comprehensive statistical information collected pursuant to this subsection * * * ” In section 3 of Executive Order 11961, the President delegated authority granted under the Act as concerns international trade in services to the Secretary of Commerce, who has redelegated it to BEA.

The major purpose of the survey is for the compilation of the U.S. balance of payments accounts. The information collected in this survey is used in developing the “transportation” portion of the U.S. balance of payments accounts. The balance of payments accounts, which are published quarterly in the Survey of Current Business, are one of the major statistical products of BEA. They are used extensively by both Government and private organizations. Without the information collected in this survey, quarterly data needed for estimating an integral component of the transportation account would be unavailable. The data are utilized by private organizations and numerous government agencies for analyzing economic trends. The data collected are also used for compiling the U.S. national income and product accounts, and for reporting to international organizations such as the International Monetary Fund.

As proposed, BEA will conduct the BE-9 survey on a quarterly basis beginning with the first quarter of 2004. The survey requests information from foreign air carriers operating in the United States. Information is collected on a quarterly basis from foreign air carriers with total annual covered revenues or total annual covered expenses incurred in the United States of $5 million or more. Foreign air carriers with total annual covered revenues and expenses below $5 million are exempt from reporting.

The exemption criterion is based on the annual revenues or expenses covered by the survey for both the current and previous year. Thus, if a foreign airline operator had revenues or expenses covered by the survey of $5 million or more during the previous year or if the company expects its revenues or expenses will be $5 million or more during the current year, then it must complete the survey for each of the four quarters of the current year.

The proposed quarterly survey will cover the transactions currently covered on the BE-36, Foreign Airline Operators' Revenues and Expenses in the United States, which is collected annually. If the proposed quarterly survey is approved the collection of the BE-36 will be discontinued. The first BE-9 quarterly survey conducted if these proposed rules are adopted cover transactions in the first quarter of 2004. BEA would send the survey to potential respondents in January of 2004; responses would be due 50 days after the end of the calendar quarter.

Executive Order 12866

These proposed rules are not significant for purposes of E.O. 12866.

Executive Order 13132

These proposed rules do not contain policies with Federalism implications as that term is defined in E.O. 13132.

Paperwork Reduction Act

These proposed rules contain a collection of information requirement subject to the Paperwork Reduction Act (PRA) and have been submitted to the Office of Management and Budget for review under the PRA.

Notwithstanding any other provisions of the law, no person is required to respond to, nor shall any person be subject to a penalty for failure to comply with, a collection-of-information subject to the requirements of the Paperwork Reduction Act unless that collection displays a currently valid Office of Management and Budget Control Number. This collection of information has been submitted to OMB for approval.

The BE-9 survey, as proposed, is expected to result in the filing of reports from about 56 respondents on a quarterly basis, or about 224 responses annually. The average number of hours per response is 5.0 hours, or an annual reporting burden of 1,120 hours (224 responses multiplied by 5 hours average burden). This estimate includes time for reviewing instructions, searching existing data sources, gathering and maintaining the data needed, and completing and reviewing the collection of information. The actual burden may vary from reporter to reporter, depending upon the number and variety of the respondent's transactions and the ease of assembling the data.

Comments are requested concerning: (a) Whether the proposed collection of information is necessary for the proper performance of the functions of the agency, including whether the information will have practical utility; (b) the accuracy of the burden estimate; (c) ways to enhance the quality, utility, and clarity of the information collected; and (d) ways to minimize the burden of the collection of information on the respondents, including the use of automated collection techniques or other forms of information technology. Comments should be addressed to: Director, Bureau of Economic Analysis (BE-1), U.S. Department of Commerce, Washington, DC 20230; or faxed (202-395-7245) or e-mailed (pbugg@omb.eop.gov) to the Office of Management and Budget, O.I.R.A. (Attention PRA Desk Officer for BEA).

Regulatory Flexibility Act

The Chief Counsel for Regulation, Department of Commerce, has certified to the Chief Counsel for Advocacy, Small Business Administration, under provisions of the Regulatory Flexibility Act (5 U.S.C. 605(b)), that this proposed rulemaking, if adopted, will not have a significant economic impact on a substantial number of small entities. The information collection excludes most small foreign air carriers from mandatory reporting because the reporting threshold for this survey is set at a level that will exempt most small foreign air carriers. The proposed BE-9 quarterly survey requests information from foreign air carriers operating in the United States with total annual covered revenues or total annual covered expenses incurred in the United States of $5 million or more. Foreign air carriers with total annual covered revenues and expenses below $5 million are exempt from reporting. Thus, the exemption level will exclude most small foreign air carriers from mandatory coverage.

List of Subjects in 15 CFR Part 801

International transactions, Economic statistics, Foreign trade, Penalties, Reporting and record keeping requirements.

Dated: September 3, 2003.
J. Steven Landefeld,
Director, Bureau of Economic Analysis.

For the reasons set forth in the preamble, BEA proposes to amend 15 CFR Part 801, as follows:

PART 801—SURVEY OF INTERNATIONAL TRADE IN SERVICES BETWEEN U.S. AND FOREIGN PERSONS

1. The authority citation for 15 CFR Part 801 continues to read as follows:

Authority: 5 U.S.C. 301, 15 U.S.C. 4908, 22 U.S.C. 3101-3108; E.O. 11961, 3 CFR, 1977 Comp., p. 86 as amended by E.O. 12013, 3 CFR, 1977 Comp., p. 147, E.O. 12318, 3 CFR, 1981 Comp., p. 173, and E.O. 12518 3 CFR, 1985 Comp., p. 348.

2. Section 801.9 is amended by adding new paragraph (c)(3) to read as follows:

§ 801.9 Reports required.

(c) Quarterly surveys. * * *

(3) BE-9, Quarterly Survey of Foreign Airline Operators' Revenues and Expenses in the United States:

(i) Who must report. A BE-9 report is required from U.S. offices, agents, or other representatives of foreign airlines that are engaged in transporting passengers or freight and express to or from the United States. If the U.S. office, agent, or other representative does not have all the information required, it must obtain the additional information from the foreign airline operator.

(ii) Exemption. A U.S. person otherwise required to report is exempt from reporting if total annual covered revenues and total annual covered expenses incurred in the United States were each less than $5 million during the previous year and are expected to be less than $5 million during the current year. If either total annual covered revenues or total annual covered expenses were or are expected to be $5 million or more, a report must be filed.

[FR Doc. 03-26298 Filed 10-16-03; 8:45 am]

BILLING CODE 3510-06-P